DEPARTMENT OF COMMERCE

National Oceanic and Atmospheric Administration

RIN 0648-XC325

Endangered Species; File No. 15809

AGENCY: National Marine Fisheries Service (NMFS), National Oceanic and Atmospheric Administration (NOAA), Commerce.

ACTION: Issuance of permit.

SUMMARY: Notice is hereby given that Paul Jobsis, Ph.D., University of the Virgin Islands, Department of Biology, 2 John Brewers Bay, St Thomas, VI 00802, has been issued a permit to take green (Chelonia mydas) and hawksbill (Eretmochelys imbricata) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Kristy Beard or Amy Hapeman, (301) 427-8401.

SUPPLEMENTARY INFORMATION: On November 9, 2012, notice was published in the Federal Register (77 FR 67341) that a request for a scientific research permit to take green and hawksbill sea turtles had been submitted by the above-named individual. The requested permit has been issued under the authority of the Endangered Species Act of 1973, as amended (ESA; 16 U.S.C. 1531 et seq.) and the regulations governing the taking, importing, and exporting of endangered and threatened species (50 CFR parts 222-226).

A 5-year permit was issued to conduct research on sea turtles around protected bays of St. Thomas and St. John, U.S. Virgin Islands. The purpose of the research is to assess the ecological movements of juvenile green and hawksbill sea turtles. Researchers are authorized to directly capture up to 40 sea turtles using tangle nets and up to 40 hawksbill sea turtles by hand or using dip nets each year. No more than 40 total sea turtles (both species combined) may be captured in a year. The following procedures may be conducted on sea turtles: Count/survey, attach flipper and passive integrated transponder tags, attach acoustic transmitters using epoxy or a combination of wire and epoxy, measure, photograph, weigh, and sample tissue.

Issuance of this permit, as required by the ESA, was based on a finding that such permit (1) was applied for in good faith, (2) will not operate to the disadvantage of such endangered or threatened species, and (3) is consistent with the purposes and policies set forth in section 2 of the ESA.

Dated: March 24, 2014.
Donna S. Wieting,
Director, Office of Protected Resources, National Marine Fisheries Service.

[FR Doc. 2014-07315 Filed 4-1-14; 8:45 am]

BILLING CODE 3510-22-P